DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer at (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Assessment of the Town Hall Meetings on Underage Drinking Prevention—(OMB No. 0930-0288)—Revision

The Substance Abuse and Mental Health Services Administration/Center for Substance Abuse Prevention (SAMHSA/CSAP) is requesting a revision from the Office of Management and Budget (OMB) of the information collection regarding the Assessment of the Town Hall Meetings (THMs) on Underage Drinking Prevention. The current data collection has approval under OMB No. 0930-0288, which expires on November 30, 2013. The assessment will continue to collect data through two existing data collection instruments: the Organizer Survey and the Participant Form.

Clarifications

Two questions were dropped from the Organizer Survey, thus bringing the total number of questions to 30. Additionally, 10 questions have been updated to provide clarification on the intent of the questions. The following table provides a summary of the proposed question clarifications and the questions that were deleted from the Organizer Survey.

Current question/item | Clarification | Rationale for clarification
q5-Did you collaborate with other organizations to coordinate the THM event? [No change to response options] | q5-Did any other community-based organization (e.g., business, school) collaborate with your organization/coalition in hosting this event? | Clarifies the point of question, which is community involvement beyond the host organization.
q6-Were youth involved in organizing and/or planning the THM event? [No change to response options] | q6-Were youth involved in organizing and/or hosting the THM event? | Clarifies the role of youth.
q7-Was the topic of the THM event solely on underage drinking? [No change to response options] | q7-Was underage drinking the only topic addressed by the THM event? | Editorial.
q9-How was the THM event promoted in the community? (Mark all that apply.) | q9-How was the THM event promoted in the community? (Mark all that apply.) | Editorial.
Response option to be clarified: E-newsletter/listserv | Clarification to: E-newsletter/e-mail list
q12-Which of the following was among the discussion topics at the THM event? (Mark all that apply.) | q13-Which of the following topics were discussed at the THM event? (Mark all that apply.) | Editorial; and clarifies parental involvement. Additionally, propose to rearrange the question order of q12 and q13 to follow a more logical sequence of speaker and then topics discussed.
Response options to be clarified: Alcohol advertising to which youth are exposed, and Parental involvement | Clarification to: Youth exposure to alcohol advertising, and Role of parents in prevention
q16-What are some of the major actions planned as a result of this THM event? (Mark all that apply.) [No change to response options] | q16-What underage drinking prevention activities are planned as a result of this THM event? (Mark all that apply.) | Clarifies the type of actions/activities that are planned as those specifically related to underage drinking.
q22-Overall, how satisfied are you with the training you received? | q22-The training has been useful to my organization's prevention work | Clarifies the utility of the training by the organization instead of satisfaction with the training. Clarifying measure is approved under OMB No. 09130-0197, expiration 03/31/14.
Response options: Very satisfied, Somewhat satisfied, Somewhat dissatisfied, Very dissatisfied | Response options: Strongly agree, Agree, Disagree, Strongly disagree, Not applicable
q23-To what extent has the training you received improved your capacity to provide effective (underage drinking) prevention services? | q23-The training I received improved my organization's capacity to do prevention work | Clarifies the improved capacity of the organization from the training provided. Clarifying measure is approved under OMB No. 09130-0197, expiration 03/31/14.
Response options: A great deal, Somewhat, Not very much, Not at all, Not applicable | Response options: Strongly agree, Agree, Disagree, Strongly disagree, Not applicable
q24-To what extent have the training recommendations you received most recently been fully implemented?
Response options: Fully, partially, Not yet begun | N/A | Question deleted; no longer applies.
q27-Overall, how satisfied are you with the TA you received? | q26-The technical assistance has been useful to my organization's prevention work | Clarifies the utility of the TA by the organization instead of satisfaction with the TA. Clarifying measure is approved under OMB No. 09130-0197, expiration 03/31/14.
Response options: Very satisfied, Somewhat satisfied, Somewhat dissatisfied, Very dissatisfied | Response options: Strongly agree, Agree, Disagree, Strongly disagree, Not applicable
q28-To what extent has the TA you received improved your capacity to provide effective (underage drinking) prevention services? | q27-The technical assistance has improved my organization's capacity to do prevention work | Clarifies the improved capacity of the organization from the TA provided. Clarifying measure is approved under OMB No. 09130-0197, expiration 03/31/14.
Response options: A great deal, Somewhat, Not very much, Not at all, Not applicable | Response options: Strongly agree, Agree, Disagree, Strongly disagree, Not applicable
q29-To what extent have the TA recommendations you received most recently been fully implemented?
Response options: Fully, partially, Not yet begun | N/A | Question deleted; no longer applies.

Minor clarifications were also made to two items on the Participant Form. Additionally, a Spanish version of the Participant Form will be provided to community-based organizations upon request. The following table provides a summary of the proposed clarifications to the two items on the Participant Form.

Current question/item | Clarification | Rationale for clarification
Informed consent statement, last sentence Please do not write your name anywhere on this form | Clarification to: Please do not write your name or other identifying information (e.g., birthday) anywhere on this form | Clarifies request not to offer identifying information on form to protect respondent anonymity.
q11-How old are you? Response options to be clarified: 13 years old or younger, 14 to 18 years old, and 19 to 24 years old | q11-How old are you? Clarification to: 12 to 17 years old, 18 to 20 years old, and 21 to 24 years old | Clarifies reporting ages of underage drinking for the Government Performance Results Act.

Data Collection Component

SAMHSA/CSAP will use a web-based method to collect data through the Organizer Survey and a paper-and-pencil approach to collect data through the Participant Form. The web-based application will comply with the requirements of Section 508 of the Rehabilitation Act to permit accessibility to people with disabilities.

Every 2 years, the Organizer Survey will be completed by an estimated 3,400 THM event organizers and will require only one response per respondent. It will take an average of 20 minutes (0.333 hours) to review the instructions and complete the survey. This burden estimate is based on comments from three 2012 THM organizers who reviewed the survey and provided comments on how long it would take them to complete it.

The Participant Form will be completed by an average of 30 participants per sampled community-based organization (n=400) and will require only one response per respondent. It will take an average of 5 minutes (0.083 hours) to review the instructions and complete the form.

Estimated Annualized Burden Table
Form name | Number of respondents | Responses per respondent | Total responses | Hours per response | Total hour burden
Organizer Survey | 3,400 | 1 | 3,400 | 0.333 | 1,132.20
Participant Form | 12,000 | 1 | 12,000 | 0.083 | 996.00
Total | 15,400 |  | 15,400 |  | 2,128.20

SAMHSA supports nationwide THMs every other year. Collecting data on each round of THMs, and using this information to inform policy and measure impact, supports SAMHSA's strategic initiative number 1: Prevention of substance abuse and mental illness. A specific goal under this initiative is to prevent or reduce the consequences of underage drinking and adult problem drinking; a specific objective is to establish the prevention of underage drinking as a priority issue for states, territories, tribal entities, colleges and universities, and communities.

SAMHSA will use the information collected to document the implementation efforts of this nationwide initiative, determine if the federally sponsored THMs lead to additional activities within the community that are aimed at preventing and reducing underage drinking, identify what these activities may possibly include, and help plan for future rounds of THMs. SAMHSA intends to post online a summary document of each round of THMs and present findings at national conferences attended by community-based organizations that have hosted THMs and might host future events. Similarly, SAMHSA plans to share findings with the Interagency Coordinating Committee on the Prevention of Underage Drinking: Agencies within this committee encourage their grantees to participate as event hosts. Additionally, the information collected will support performance measurement for SAMHSA programs under the Government Performance Results Act.

Send comments to Summer King, SAMHSA Reports Clearance Officer, Room 2-1057, One Choke Cherry Road, Rockville, MD 20857 OR email her a copy at summer.king@samhsa.hhs.gov. Written comments should be received by August 20, 2013.

Summer King,
Statistician.

[FR Doc. 2013-14765 Filed 6-20-13; 8:45 am]

BILLING CODE 4162-20-P